DEPARTMENT OF TRANSPORTATION

National Highway Traffic Safety Administration

[Docket No. NHTSA-2012-0031, Notice 1]

Notice of Receipt of Petition for Decision That Nonconforming Right-Hand Drive 2000-2003 Jeep Wrangler Multi-Purpose Passenger Vehicles Are Eligible for Importation

AGENCY: National Highway Traffic Safety Administration, DOT.

ACTION: Notice of receipt of petition.

SUMMARY: This document announces receipt by the National Highway Traffic Safety Administration (NHTSA) of a petition for a decision that right-hand drive (RHD) 2000-2003 Jeep Wrangler multi-purpose passenger vehicles (MPVs) that were not originally manufactured to comply with all applicable Federal Motor Vehicle Safety Standards (FMVSS) are eligible for importation into the United States because they have safety features that comply with, or are capable of being altered to comply with, all such standards.

DATES: The closing date for comments on the petition is April 25, 2012.

ADDRESSES: Comments should refer to the docket and notice numbers above and be submitted by any of the following methods:

• Federal eRulemaking Portal: Go to http://www.regulations.gov. Follow the online instructions for submitting comments.

• Mail: Docket Management Facility: U.S. Department of Transportation, 1200 New Jersey Avenue SE., West Building Ground Floor, Room W12-140, Washington, DC 20590-0001.

• Hand Delivery or Courier: West Building Ground Floor, Room W12-140, 1200 New Jersey Avenue SE., between 9 a.m. and 5 p.m. ET, Monday through Friday, except Federal holidays.

• Fax: 202-493-2251.

Instructions: Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

How to Read Comments submitted to the Docket: You may read the comments received by Docket Management at the address and times given above. You may also view the documents from the Internet at http://www.regulations.gov.

Follow the online instructions for accessing the dockets. The docket ID number and title of this notice are shown at the heading of this document notice. Please note that even after the comment closing date, we will continue to file relevant information in the Docket as it becomes available. Further, some people may submit late comments. Accordingly, we recommend that you periodically search the Docket for new material.

FOR FURTHER INFORMATION CONTACT: George Stevens, Office of Vehicle Safety Compliance, NHTSA (202-366-5308).

SUPPLEMENTARY INFORMATION:

Background

Under 49 U.S.C. 30141(a)(1)(B), a motor vehicle that was not originally manufactured to conform to all applicable FMVSS, and has no substantially similar U.S.-certified counterpart, shall be refused admission into the United States unless NHTSA has decided that the motor vehicle has safety features that comply with, or are capable of being altered to comply with, all applicable FMVSS based on destructive test data or such other evidence as NHTSA decides to be adequate.

Petitions for eligibility decisions may be submitted by either manufacturers or importers who have registered with NHTSA pursuant to 49 CFR Part 592. As specified in 49 CFR 593.7, NHTSA publishes notices in the Federal Register of each petition that it receives, and affords interested persons an opportunity to comment on the petition. At the close of the comment period, NHTSA decides, on the basis of the petition and any comments that it has received, whether the vehicle is eligible for importation. The agency then publishes this decision in the Federal Register.

US SPECS of Havre de Grace, Maryland (Registered Importer 03-321) has petitioned NHTSA to decide whether nonconforming RHD 2000-2003 Jeep Wrangler MPVs are eligible for importation into the United States. US SPECS believes these vehicles are capable of being modified to meet all applicable FMVSS.

In its petition, US SPECS notes that Chrysler Corporation certified an RHD 2003 Jeep Wrangler MPV to all applicable FMVSS and offered that vehicle for sale in the United States. US SPECS contends that the non-U.S certified RHD 2000-2003 Jeep Wrangler MPV shares the same platform with the U.S.-certified RHD 2003 model, and on that basis compares the non-U.S. certified models to that vehicle to establish their conformity with many applicable FMVSS. Because there is no U.S.-certified counterpart for the RHD 2000, 2001, and 2002 Jeep Wrangler MPV, the petitioner acknowledged that it could not base its petition on the substantial similarity of those vehicles to the U.S.-certified RHD 2003 Jeep Wrangler MPV in light of the petitioning requirements of 49 U.S.C. 30141(a)(1)(A), as set forth in 49 CFR Part 593. Instead, the petitioner chose to establish import eligibility on the basis that the vehicles have safety features that comply with, or are capable of being modified to comply with, the FMVSS based on destructive test data or such other evidence that NHTSA decides to be adequate as set forth in 49 U.S.C. 30141(a)(1)(B). Nevertheless, the petitioner contends that the non-U.S. certified RHD 2000-2003 Jeep Wrangler MPV utilizes the same components as the U.S.- certified RHD 2003 Jeep Wrangler MPV in virtually all of the systems subject to the applicable FMVSS.

US SPECS submitted information with its petition intended to demonstrate that non-U.S. certified RHD 2000-2003 Jeep Wrangler MPVs conform to many FMVSS and are capable of being altered to comply with all other standards to which they were not originally manufactured to conform.

Specifically, the petitioner claims that non-U.S. certified RHD Jeep Wrangler MPVs, as originally manufactured, conform to: Standard Nos. 102 Transmission Shift Lever Sequence, Starter Interlock, and Transmission Braking Effect, 103 Windshield Defrosting and Defogging Systems, 104 Windshield Wiping and Washing Systems, 106 Brake Hoses, 113 Hood Latch System, 116 Motor Vehicle Brake Fluids, 119 New Pneumatic Tires, 124 Accelerator Control Systems, 135 Light Vehicle Brake Standard, 202 Head Restraints, 204 Steering Control Rearward Displacement, 205 Glazing Materials, 206 Door Locks and Door Retention Components, 207 Seating Systems, 210 Seat Belt Assembly Anchorages, 212 Windshield Mounting, 214 Side Impact Protection, 216 Roof Crush Resistance, 219 Windshield Zone Intrusion, and 302 Flammability of Interior Materials.

The petitioner also contends that the vehicles are capable of being altered to meet the following standards, in the manner indicated:

Standard No. 101 Controls and Displays: replacement of the speedometer with a unit calibrated in miles per hour if the vehicle is not already so equipped.

Standard No. 108 Lamps, Reflective Devices and Associated Equipment: if the vehicle is not already so equipped, installation of U.S.-model: (a) Headlamps and front side marker lamps; (b) tail lamp assemblies that incorporate rear side marker lamps; (c) center high-mounted stop lamp; and (d) front and rear side reflex reflectors.

Standard No. 111 Rearview Mirrors: installation of a U.S.-model passenger side rearview mirror, or inscription of the required warning statement on the face of that mirror, if the vehicle is not already so equipped.

Standard No. 114 Theft Protection: installation of a warning buzzer if the vehicle is not already so equipped.

Standard No. 118 Power-Operated Window, Partition, and Roof Panel Systems: inspection of each vehicle and reprogramming or rewiring of the power operated window system if the vehicle is not already equipped with a compliant system.

Standard No. 120 Tire Selection and Rims for Motor Vehicles Other than Passenger Cars: installation of a tire and rim information placard.

Standard No. 201 Occupant Protection in Interior Impact: inspection of each vehicle and replacement of components if necessary to ensure compliance with the standard.

Standard No. 208 Occupant Crash Protection: inspection of each vehicle to confirm that U.S.-model airbags, control unit, sensors, seat belts, and knee bolsters have been installed. The petitioner states that the vehicles are equipped with a seat belt and audible warning buzzer that are identical to those found on U.S.-certified models. In addition, the petitioner states that the vehicles are equipped with dual front airbags and knee bolsters, and combination lap and shoulder belts at the front and rear outboard seating positions that are self-tensioning and are released by means of a single red push button.

Standard No. 209 Seat Belt Assemblies: Replacement of the passenger side seat belt with a U.S. model component on vehicles that are not already so equipped.

Standard No. 225 Child Restraint Anchorage Systems: inspection of each vehicle and installation of a U.S. model anchorage on all vehicles that are not already so equipped.

Standard No. 301 Fuel System Integrity: inspection of each vehicle and installation of U.S.-conforming components on all vehicles not already so equipped to ensure that the fuel system meets the requirements of this standard.

In addition, the petitioner states that a vehicle identification number plate must be installed in the area of the left windshield post to meet the requirements of 49 CFR Part 565 if the vehicle is not already so equipped.

All comments received before the close of business on the closing date indicated above will be considered, and will be available for examination in the docket at the above addresses both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Issued on: March 19, 2012.
Claude H. Harris,
Director, Office of Vehicle Safety Compliance.

[FR Doc. 2012-7097 Filed 3-23-12; 8:45 am]

BILLING CODE 4910-59-P